FEDERAL COMMUNICATIONS COMMISSION

47 CFR Part 73

[DA 08-736; MB Docket No. 07-227; RM-11405]

Radio Broadcasting Services; Clayton, OK

AGENCY: Federal Communications Commission.

ACTION: Final rule.

SUMMARY: At the request of North Texas Radio Group, L.P., licensee of Station KFYZ-FM, Channel 241A, Bennington, Oklahoma, the Audio Division grants the petition for rule making requesting the substitution of Channel 262A for vacant Channel 241A at Clayton, Oklahoma to accommodate a hybrid minor change application for Station KFYZ-FM at Bennington, Oklahoma. See File No. BPH-20070816ABS.

DATES: Effective May 12, 2008.

ADDRESSES: Secretary, Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 07-227, adopted March 26, 2008, and released March 28, 2008. The Notice of Proposed Rulemaking proposed the substitution of Channel 262A for vacant Channel 241A at Clayton, Oklahoma. See 72 FR 63868, published November 13, 2007. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail http://www.BCPIWEB.com. The Commission will send a copy of this Report and Order in a report to be sent to Congress and the Government Accountability Office pursuant to the Congressional Review Act, see 5 U.S.C. 801(a)(1)(A).

For information regarding proper filing procedures for comments, see 47 CFR 1.415 and 1.420.

List of Subjects in 47 CFR Part 73

Radio, Radio broadcasting.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oklahoma, is amended by removing Channel 241A and adding Channel 262A at Clayton.

Federal Communications Commission.
John A. Karousos,
Assistant Chief, Audio Division, Media Bureau.

[FR Doc. E8-8086 Filed 4-16-08; 8:45 am]

BILLING CODE 6712-01-P